DEPARTMENT OF COMMERCE

National Oceanic and Atmospheric Administration

[Docket No. 030602141-6326-45; I.D. 051906D]

RIN 0648-ZB55

Availability of Grant Funds for Fiscal Year 2007

AGENCY: National Oceanic and Atmospheric Administration (NOAA), Commerce.

ACTION: Notice.

SUMMARY: The NOAA publishes this notice to provide the general public with a consolidated source of program and application information related to its competitive grant and cooperative agreement (CA) award offerings for fiscal year (FY) 2007. This Omnibus notice is designed to replace the multiple Federal Register notices that traditionally advertised the availability of NOAA''s discretionary funds for its various programs. It should be noted that additional program initiatives unanticipated at the time of the publication of this notice may be announced through subsequent Federal Register notices. All announcements will also be available through the Grants.gov website.

DATES: Proposals must be received by the date and time indicated under each program listing in the SUPPLEMENTARY INFORMATION section of this notice.

ADDRESSES: Proposals must be submitted to the addresses listed in the SUPPLEMENTARY INFORMATION section of this notice for each program. The Federal Register and Full Funding Opportunity (FFO) notices may be found on the Grants.gov website. The URL for Grants.gov is http://www.grants.gov.

FOR FURTHER INFORMATION CONTACT: Please contact the person listed within this notice as the information contact under each program.

SUPPLEMENTARY INFORMATION: Applicants must comply with all requirements contained in the FFO announcements for each of the programs listed in this omnibus notice. These FFOs are available at http://www.grants.gov.

The list of entries below describe the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

NOAA Project Competitions

This omnibus notice describes funding opportunities for the following NOAA discretionary grant programs:

National Marine Fisheries Service

1. 2007 Hawaii Seafood Program

2. Chesapeake Bay Cooperative Science Program

3. Chesapeake Bay Fisheries Research Program

4. Chesapeake Bay Submerged Aquatic Vegetation Restoration Program

5. Mid-Atlantic Research Set-Aside

6. Proactive Species Conservation Program

National Ocean Service

1. FY 2007 Regional Integrated Ocean Observing System

2. California Bay Watershed Education and Training (B-WET) Program, Adult and Community Watershed Education in the Monterey Bay

National Weather Service

1. Hydrologic Research and Social Science Research in Hydrologic Applications.

Oceanic and Atmospheric Research

1. NOAA's Great Lakes Ecosystem Research

Under Secretary's Associated Office

1. National Ocean Sciences Competition for High School Students

2. Administrative Services for NOAA's Ernest F. Hollings Undergraduate Scholarship Program

NOAA Mission Goals

The mission of the agency is to understand and predict changes in the Earth's environment and conserve and manage coastal and marine resources to meet our Nation's economic, social, and environmental needs. Below is a listing of the program solicitations that generally fall under one or more areas of NOAA's strategic plan, i.e., mission goals. It is imperative that potential applicants tie their proposals to one of the mission goals. Program solicitations are provided from each of the five operating units within NOAA.

NOAA Project Competitions Listed by NOAA Mission Goals

1. Protect, restore and manage the use of coastal and ocean resources through ecosystem-based management.

SUMMARY DESCRIPTION: Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world. Funded proposals should help achieve the following outcomes:

A. Healthy and productive coastal and marine ecosystems that benefit society; and

B. A well-informed public that acts as a steward of coastal and marine ecosystems.

Program Names:

1. 2007 Hawaii Seafood Program

2. California Bay Watershed Education and Training (B-WET) Program, Adult and Community Watershed Education in the Monterey Bay

3. Chesapeake Bay Fisheries Research Program

4. Chesapeake Bay Cooperative Science Program

5. Chesapeake Bay Submerged Aquatic Vegetation Restoration Program

6. Mid-Atlantic Research Set-Aside

7. NOAA's Great Lakes Ecosystem Research

8. Proactive Species Conservation Program

2. Understand climate variability and change to enhance society's ability to plan and respond.

SUMMARY DESCRIPTION: Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy — property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

A. A predictive understanding of the global climate system on time scales of weeks to decades with quantified uncertainties sufficient for making informed and reasoned decisions; and

B. Climate-sensitive sectors and the climate-literate public effectively incorporating NOAA's climate products into their plans and decisions.

Program Names: None

3. Serve society's needs for weather and water information.

SUMMARY DESCRIPTION: Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and non-governmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

A. Reduced loss of life, injury, and damage to the economy;

B. Better, quicker, and more valuable weather and water information to support improved decisions; and

C. Increased customer satisfaction with weather and water information and services.

Program Names:

1. FY 2007 Regional Integrated Ocean Observing System

2. Hydrologic Research and Social Science Research in Hydrologic Applications.

4. Support the Nation's commerce with information for safe, efficient, and environmentally sound transportation.

SUMMARY DESCRIPTION: Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather-related air-traffic delays. Improved surface weather forecasts and specific user warnings would reduce the 7,000 weather related fatalities and 800,000 injuries that occur annually from crashes on roads and highways. The injuries, loss of life, and property damage from weather-related crashes cost an average of $42 billion annually.

We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

A. Safe, secure, efficient, and seamless movement of goods and people in the U.S. transportation system; and

B. Environmentally sound development and use of the U.S. transportation system.

Program Names: None

5. Provide critical support for NOAA's mission.

SUMMARY DESCRIPTION: Strong, effective, and efficient support activities are necessary for us to achieve our Mission Goals. Our facilities, ships, aircraft, environmental satellites, data-processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies.

NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology.

Leadership development and program support are essential for achieving our Mission Goals. We must also commit to organizational excellence through management and leadership across a “corporate” NOAA. We must continue our commitment to valuing NOAA's diverse workforce, including effective workforce planning strategies designed to attract, retain and develop competencies at all levels of our workforce. Through the use of business process reengineering, we will strive for state-of-the-art, value-added financial and administrative processes. NOAA will ensure state-of-the-art and secure information technology and systems. By developing long-range, comprehensive facility planning processes NOAA will be able to ensure right-sized, cost-effective, and safe facilities.

Funded proposals should help achieve the following outcomes:

A. A dynamic workforce with competencies that support NOAA's mission today and in the future.

Program Names:

1. Administrative Services for NOAA's Ernest F. Hollings Undergraduate Scholarship Program

Non-Competitive Projects Announcement

1. Protect, restore and manage the use of coastal and ocean resources through ecosystem-based management. See SUMMARY DESCRIPTION above.

1. NOAA Northeast Pacific Expedition Grant Program

Electronic Access

The full funding announcement for each program is available via the Grants.gov web site: http://www.grants.gov. These announcements will also be available by contacting the program official identified below. You will be able to access, download and submit electronic grant applications for NOAA Programs in this announcement at http://www.grants.gov. The closing dates will be the same as for the paper submissions noted in this announcement. NOAA strongly recommends that you do not wait until the application deadline date to begin the application process through Grants.gov. Getting started with Grants.gov is easy! Go to http://www.grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1 Find Grant Opportunity for Which You Would Like to Apply

Start your search for Federal government-wide grant opportunities and register to receive automatic email notifications of new grant opportunities or any modifications to grant opportunities as they are posted to the site by clicking the Find Grant Opportunities tab at the top of the page.

Get Started Step 2 Register with Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3 Register with the Credential Provider

You must register with a Credential Provider to receive a username and password. This will be required to securely submit your grant application.

Get Started Step 4 Register with Grants.gov

The final step in the Get Started process is to register with Grants.gov. This will be required to submit grant applications on behalf of your organization. After you have completed the registration process, you will receive email notification confirming that you are able to submit applications through Grants.gov.

Get Started Step 5 Log on to Grants.gov

After you have registered with Grants.gov, you can log on to Grants.gov to verify if you have registered successfully, to check application status, and to update information in your applicant profile, such as your name, telephone number, email address, and title. In the future, you will have the ability to determine if you are authorized to submit applications through Grants.gov on behalf of your organization.

Electronic Application File Format and Naming Conventions

After the initial grant application package has been submitted to NOAA (e.g., via Grants.gov), requests for additional or modified forms may be requested by NOAA. Applicants should resubmit forms in Portable Document File Format (PDF) and follow the following file naming convention to name resubmitted forms. For example: 98042_SF-424_mmddyy_v2.pdf.

(1) 98042 = Proposal # (provided to applicant by Grants.gov and NOAA)

(2) SF-424 = Form Number

(3) mmddyy = Date

(4) v2 = Version Number

To learn how to convert documents to PDF go to: http://www.grants.gov/assets/PDFConversion.pdf.

Evaluation Criteria and Selection Procedures

NOAA standardized the evaluation and selection process for its competitive assistance programs. All proposals submitted in response to this notice shall be evaluated and selected in accordance with the following procedures. There are two sets of evaluation criteria and selection procedures, one for project proposals, and the other for fellowship, scholarship, and internship programs. These evaluation criteria and selection procedures apply to all of the programs included below.

Proposal Review and Selection Process for Projects

Some programs may include a pre-application process which provides an initial review and feedback to the applicants that have responded to a call for letters of intent or pre-proposals; however, not all programs will include such a process. If a pre-application process is used by a program, it shall be described in the Summary Description and the deadline shall be provided in the Application Deadline section. Upon receipt of a full application by NOAA, an initial administrative review is conducted to determine compliance with requirements and completeness of the application. A merit review is conducted to individually evaluate, score, and rank applications using the evaluation criteria. A second merit review may be conducted on the applicants that meet the program's threshold (based on scores from the first merit review) to make selections using the selection factors provided below. Merit review is conducted by mail reviewers and/or peer panel reviewers. Each reviewer will individually evaluate and rank proposals using the evaluation criteria provided below. No consensus advice shall be provided by either merit review group if there are any non-Federal members. A minimum of three merit reviewers per proposal at each stage is required. The merit reviewer's ratings are used to produce a rank order of the proposals. The NOAA Program Officer may review the ranking of the proposals and make recommendations to the Selecting Official based on the mail and/or panel review(s) and selection factors listed below. The Selecting Official selects proposals after considering the mail and/or peer panel review(s) and recommendations of the Program Officer. In making the final selections, the Selecting Official will award in rank order unless the proposal is justified to be selected out of rank order based upon one or more of the selection factors below. The Program Officer and/or Selecting Official may negotiate the funding level of the proposal. The Selecting Official makes final recommendations for award to the Grants Officer who is authorized to obligate the funds.

Evaluation Criteria for Projects

1. Importance and/or relevance and applicability of proposed project to the program goals: This ascertains whether there is intrinsic value in the proposed work and/or relevance to NOAA, federal, regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Selection Factors for Projects

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other federal agencies.

4. Program priorities and policy factors.

5. Applicant's prior award performance.

6. Partnerships and/or Participation of targeted groups.

7. Adequacy of information necessary for NOAA staff to make a NEPA determination and draft necessary documentation before recommendations for funding are made to the Grants Officer.

Proposal Review and Selection Process for NOAA Fellowship, Scholarship and Internship Programs

Some programs may include a pre-application process which provides an initial review and feedback to the applicants that have responded to a call for letters of intent or pre-proposals; however, not all programs will include such a process. If a pre-application process is used by a program, it shall be described in the Summary Description and the deadline shall be provided in the Application Deadline section. An initial administrative review of full applications is conducted to determine compliance with requirements and completeness of applications. A merit review is conducted to individually evaluate, score, and rank applications using the evaluation criteria. A second merit review may be conducted on the applicants that meet the program's threshold (based on scores from the first merit review) to make selections using the selection factors provided below. The Program Officer may conduct a review of the rank order and make recommendations to the Selecting Official based on the panel ratings and the selection factors listed below. The Selecting Official considers merit reviews and recommendations. The Selecting Official will award in rank order unless the proposal is justified to be selected out of rank order based upon one or more of the selection factors below. The Selecting Official makes final recommendations for awards to the Grants Officer who is authorized to obligate the funds.

Evaluation Criteria for Fellowship/Scholarships/Internships

1. Academic record and statement of career goals and objectives of student

2. Quality of project and applicability to program priorities

3. Recommendations and/or endorsements of student

4. Additional relevant experience related to diversity of education; extra-curricular activities; honors and awards; interpersonal, written, and oral communications skills

5. Financial need of student

Selection Factors for Fellowship/Scholarships/Internships

1. Balance/Distribution of funds:

a. Across academic disciplines

b. By types of institutions

c. Geographically

2. Availability of funds

3. Program-specific objectives

4. Degree in scientific area and type of degree sought

NOAA Project Competitions

National Marine Fisheries Service (NMFS)

1. 2007 Hawaii Seafood Program

SUMMARY DESCRIPTION: NMFS is soliciting applications for financial assistance for the 2007 Hawaii Seafood Program. The Hawaii Seafood Program is proposed for an effort to help strengthen and sustain the economic viability of Hawaii's fishing and seafood industry through activities that promote Hawaii fisheries products as high quality and safe domestic seafood produced by a responsible and well-managed fishery. Projects may request support for cooperative seafood safety research, technical assistance, and/or seafood education. This program will support NOAA's mission to protect, restore and manage the use of coastal and ocean resources through ecosystem-based management.

FUNDING AVAILABILITY: Approximately $1,000,000 may be available. Actual funding availability for this program is contingent upon FY07 Congressional appropriations.

STATUTORY AUTHORITY: 15 U.S.C. 713c-3(d).

CATALOG OF FEDERAL DOMESTIC ASSISTANCE (CFDA) NUMBER: 11.452, Unallied Industry Projects.

APPLICATION DEADLINE: Applications must be received by 5 p.m. Hawaii standard time on February 28, 2007.

ADDRESS FOR SUBMITTING APPLICATIONS: Applications are available through the Grants.Gov website at http://www.grants.gov. For those organizations without internet access, application materials and instructions may be obtained from Scott W.S. Bloom, NOAA Federal Program Officer, Pacific Islands Regional Office, 1601 Kapiolani Blvd., Suite 1110, Honolulu, HI, 96814.

INFORMATION CONTACT: Scott W.S. Bloom (NOAA Fisheries) at 808-944-2218, or by e-mail at Scott.Bloom@noaa.gov.

ELIGIBILITY: Eligible applicants are individuals, institutions of higher education, other nonprofits, commercial organizations, international organizations, foreign governments, organizations under the jurisdiction of foreign governments, and state, local and Indian tribal governments. Federal agencies, or employees of Federal agencies are not eligible to apply.

COST SHARING REQUIREMENTS: None.

INTERGOVERNMENTAL REVIEW: Applications under this program are subject to Executive Order 12372, “Intergovernmental Review of Federal Programs.”

2. Chesapeake Bay Cooperative Science Program

SUMMARY DESCRIPTION: The National Marine Fisheries Service (NMFS) / NOAA Chesapeake Bay Office (NCBO) is soliciting applications for financial assistance to support Cooperative Science in Chesapeake Bay. The NCBO is developing a Cooperative Science Program in Chesapeake Bay to formalize and expand collaborative research among the Chesapeake Bay's commercial fishing industry, marine scientists, and fishery management communities. The goal of this initiative is to enhance the data upon which fishery management decisions are made as well as to facilitate communication and collaboration among commercial fishermen, scientists, and fishery managers. Through this initiative, the NCBO will develop a collaborative and cooperative program to set research priorities that meet management and fishing industry needs. This funding will provide a significant opportunity for the NOAA Chesapeake Bay Office to develop collaborative relationships with the fishing industry. This program will support NOAA's mission to protect, restore and manage the use of coastal and ocean resources through ecosystem-based management.

FUNDING AVAILABILITY: Funding availability for this program is contingent upon FY07 Congressional appropriations. Approximately $100,000 - $150,000 in funding may be available for awards in FY 2007; there are no restrictions on minimum or maximum funding requests. Award periods may be up to a maximum of 3 years, with annual funding contingent on the availability of Federal appropriations.

STATUTORY AUTHORITY: Fish and Wildlife Coordination Act, as amended, at 16 U.S.C. 661

CATALOG OF FEDERAL DOMESTIC ASSISTANCE (CFDA) NUMBER: 11.457, Chesapeake Bay Studies.

APPLICATION DEADLINE: Letters of Intent must be received by 5 p.m. EST on February 7, 2007 to Derek.orner@noaa.gov. Full proposals must be received by 5 p.m. EST on March 12, 2007.

ADDRESS FOR SUBMITTING PROPOSALS: Applicants should submit proposals online through www.grants.gov. If online submission is not possible, paper applications may be mailed to NOAA Chesapeake Bay Office, 410 Severn Ave., Suite 107A, Annapolis, MD 21403.

INFORMATION CONTACT: Derek Orner, NOAA Chesapeake Bay Office, 410 Severn Ave., Suite 107A, Annapolis, MD 21403; email: Derek.orner@noaa.gov; phone: 410-267-5676.

ELIGIBILITY: Eligible applicants are institutions of higher education, other nonprofits, commercial organizations, foreign governments, organizations under the jurisdiction of foreign governments, international organizations, and state, local and Indian tribal governments. Federal agencies or institutions are not eligible to receive Federal assistance under this notice.

COST SHARING REQUIREMENTS: There are no cost-sharing or matching requirements under this solicitation.

INTERGOVERNMENTAL REVIEW: Applications under this program are subject to Executive Order 12372, “Intergovernmental Review of Federal Programs.”

3. Chesapeake Bay Fisheries Research Program

SUMMARY DESCRIPTION: The National Marine Fisheries Service (NMFS), NOAA Chesapeake Bay Office (NCBO), is soliciting applications for financial assistance to support fisheries research, monitoring, modeling, or assessment that will facilitate effective ecosystem-based management in Chesapeake Bay. This management paradigm requires knowledge of the interactions among exploited species, and their habitats and stressors, to develop viable management plans. Applicants follow the Fisheries Ecosystem Plan (http://noaa.chesapeakebay.net/docs/FEP_DRAFT.pdf) in identifying the science necessary to support ecosystem-based fisheries management in the Bay. This program will support NOAA's mission to protect, restore and manage the use of coastal and ocean resources through ecosystem-based management.

FUNDING AVAILABILITY: Funding availability for this program is contingent upon FY07 Congressional appropriations. Approximately $1,000,000 was available in FY 2006 and similar levels may be available for awards in FY2007 (this includes continuation of multi-year awards); there are no restrictions on minimum or maximum funding requests. Award periods may be up to a maximum of 3 years, with annual funding contingent on the availability of Federal appropriations.

STATUTORY AUTHORITY: Fish and Wildlife Coordination Act, as amended, at 16 U.S.C. 661

CATALOG OF FEDERAL DOMESTIC ASSISTANCE (CFDA) NUMBER: 11.457, Chesapeake Bay Studies.

APPLICATION DEADLINE: Letters of Intent must be received by 5 p.m. EST on February 7, 2007 to Derek.orner@noaa.gov. Full proposals must be received by 5 p.m. EST on March 12, 2007.

ADDRESS FOR SUBMITTING PROPOSALS: Applicants should submit proposals online through www.grants.gov. If online submission is not possible, paper applications may be mailed to NOAA Chesapeake Bay Office, 410 Severn Ave., Suite 107A, Annapolis, MD 21403. Information Contact: Derek Orner, NOAA Chesapeake Bay Office, 410 Severn Ave., Suite 107A, Annapolis, MD 21403; email: derek.orner@noaa.gov; phone: 410-267-5676.

ELIGIBILITY: Eligible applicants are institutions of higher education, other nonprofits, commercial organizations, foreign governments, organizations under the jurisdiction of foreign governments, international organizations, and state, local and Indian tribal governments. Federal agencies or institutions are not eligible to receive Federal assistance under this notice.

COST SHARING REQUIREMENTS: There are no cost-sharing or matching requirements under this solicitation.

INTERGOVERNMENTAL REVIEW: Applications under this program are subject to Executive Order 12372, “Intergovernmental Review of Federal Programs.”

4. Chesapeake Bay Submerged Aquatic Vegetation Restoration Program

SUMMARY DESCRIPTION: The National Marine Fisheries Service (NMFS) / NOAA Chesapeake Bay Office (NCBO) is soliciting applications for financial assistance to support submerged aquatic vegetation(SAV) Restoration projects in Chesapeake Bay. This program is a competitive program that supports vital restoration, research, monitoring, analysis, modeling and assessment of SAV activities that will assist the CBP, NOAA, and other program partners in reaching the goal of effective ecosystem-based management and integrated restoration. Projects follow and the guidance in the Chesapeake Bay Program's “Strategy to Accelerate the Protection and Restoration of Submerged Aquatic Vegetation in the Chesapeake Bay” which is available at http://www.chesapeakebay.net/pubs/subcommittee/lrsc/thwg/Final_SAV_restoration.pdf. This program will support NOAA's mission to protect, restore and manage the use of coastal and ocean resources through ecosystem-based management.

FUNDING AVAILABILITY: Funding availability for this program is contingent upon FY07 Congressional appropriations. Approximately $250,000 in funding may be available for awards in FY 2007; there are no restrictions on minimum or maximum funding requests. Award periods may be up to a maximum of 3 years, with annual funding contingent on the availability of Federal appropriations.

STATUTORY AUTHORITY: Fish and Wildlife Coordination Act, as amended, at 16 U.S.C. 661.

CATALOG OF FEDERAL DOMESTIC ASSISTANCE (CFDA) NUMBER: 11.457, Chesapeake Bay Studies.

APPLICATION DEADLINE: Letters of Intent must be received by 5 p.m. EST on February 7, 2007. Full proposals must be received by 5 p.m. EST on March 12, 2007. Address for Submitting Proposals: Applicants should submit proposals online through www.grants.gov. If online submission is not possible, paper applications may be mailed to NOAA Chesapeake Bay Office, 410 Severn Ave., Suite 107A, Annapolis, MD 21403. Information Contact: Peter Bergstrom, NOAA Chesapeake Bay Office, 410 Severn Ave., Suite 107A, Annapolis, MD 21403; email: peter.bergstrom@noaa.gov; phone: 410-267-5665.

ELIGIBILITY: Eligible applicants are institutions of higher education, other nonprofits, commercial organizations, foreign governments, organizations under the jurisdiction of foreign governments, international organizations, and state, local and Indian tribal governments. Federal agencies or institutions are not eligible to receive Federal assistance under this notice.

COST SHARING REQUIREMENTS: There are no cost-sharing or matching requirements under this solicitation.

INTERGOVERNMENTAL REVIEW: Applications under this program are subject to Executive Order 12372, “Intergovernmental Review of Federal Programs.”

5. Mid-Atlantic Research Set-Aside

SUMMARY DESCRIPTION: The Research Set-Aside (RSA) Program provides a mechanism to fund research and compensate vessels through the sale of fish harvested under a research quota. For fishing year 2008 (January 1-December 31, 2008), NMFS announces that up to 3 percent of the total allowable landings (TAL) in certain Mid-Atlantic fisheries may be dedicated to research endeavors under the RSA program. The setting of the actual RSA quotas will be the subject of future rulemaking. NMFS is soliciting proposals for research activities concerning the summer flounder, scup, black sea bass, Loligo squid, Illex squid, Atlantic mackerel, butterfish, Atlantic bluefish, and tilefish fisheries. The set-asides may range between 0 and 3 percent of each species' TAL. The set-aside allocated for a given species is designated primarily for research involving that species. However, to promote research for species where it would otherwise be infeasible, individual research projects may request up to 25 percent of the set-aside allocations for other species listed in this notice that are not directly involved in a particular research project. No Federal funds are provided for research under this notification, but rather the opportunity to fish and sell the catch to generate income to offset research costs. Projects funded under an RSA allocation (or award) must enhance understanding of the fishery resource or contribute to the body of information on which management decisions are made. The program priorities for this opportunity support NOAA's Mission support goal of: Ecosystems - Protect, Restore, and Manage Use of Coastal and Ocean Resources through Ecosystem-Based Management.

FUNDING AVAILABILITY: No Federal funds are provided for research under this notification, but rather the opportunity to fish and sell the catch to generate income. The Federal Government may issue an Exempted Fishing Permit (EFP) or Letter of Acknowledgment (LOA), as applicable, which may provide special fishing privileges in response to research proposals selected under this program.

STATUTORY AUTHORITY: Issuing grants is consistent with sections 303(b)(11), 402(e), and 404(c) of the Magnuson-Stevens Fishery Conservation and Management Act, 16 U.S.C. 1853(b)(11), 16 U.S.C. 1881a(e), and 16 U.S.C. 1881c(c), respectively. The award of a set-aside from the TAL of selected species resulted from the approval of Framework Adjustment 1 (Framework 1) to the Atlantic Mackerel, Squid, and Butterfish; Summer Flounder, Scup, and Black Sea Bass; and Atlantic Bluefish Fishery Management Plans (FMPs); and the RSA provisions of the Tilefish FMP. Framework 1 established a procedure through which RSA amounts are set annually as part of the Mid-Atlantic Fishery Management Council's (Council) quota-setting process (66 FR 42156, August 10, 2001), and is codified in regulations at 50 CFR 648.21(g).

CATALOG OF FEDERAL DOMESTIC ASSISTANCE NUMBER: 11.454, Unallied Management Projects.

APPLICATION DEADLINE: Applications must be received by NMFS on or before 5 p.m. EST on February 12, 2007.

ADDRESS FOR SUBMITTING APPLICATIONS: Applications should be submitted through http://www.grants.gov, and use the following funding opportunity # NMFS-NEFSC-2007-2000887 unless an applicant does not have Internet access. In that case, hard copies should be sent to NMFS, Northeast Fisheries Science Center, 166 Water Street, Woods Hole, MA 02543. Mark proposals “Attention: Mid-Atlantic Research Set-Aside Program.”

INFORMATION CONTACT: Daniel Furlong, Executive Director, Mid-Atlantic Fishery Management Council, by phone at 302-674-2331 ext. 19, or fax at 302-674-5399; Clay Heaton, Fishery Management Specialist, Mid-Atlantic Fishery Management Council, by phone at 302-674-2331 ext. 13, or via email at cheaton@mafmc.org; or Paul Perra, Fishery Policy Analyst, NMFS, Northeast Regional Office, One Blackburn Drive, Gloucester, MA 01930, by phone at 978-281-9153, by fax at 978-281-9135, or via e-mail at paul.perra@noaa.gov.

ELIGIBILITY: Eligible applicants include institutions of higher education, hospitals, other nonprofits, commercial organizations, individuals, state, local, and Native American tribal governments. Federal agencies and institutions are not eligible to receive Federal assistance under this notice. Additionally, employees of any Federal agency or Regional Fishery Management Council are ineligible to submit an application under this program. However, Council members who are not Federal employees may submit an application.

COST SHARING: None.

INTERGOVERNMENTAL REVIEW: Applicants under this program are subject to Executive Order 12372, “Intergovernmental Review of Federal Programs.”

6. Proactive Species Conservation Program

SUMMARY DESCRIPTION: The National Marine Fisheries Service (NMFS) is soliciting applications for financial assistance to support the conservation of marine and anadromous species of concern. To raise awareness of potentially at-risk species and to foster their proactive conservation, the NMFS created a “species of concern” list in April 2004 (69 FR 19975). Under this solicitation, the NMFS is seeking to support conservation efforts for these species of concern. Any state, tribal, or local entity that has management or regulatory authority over one or more of these species or over activities that affect these species is eligible to apply. A current list of NMFS' species of concern can be found at http://www.nmfs.noaa.gov/pr/species/concern/#list. This program will support NOAA's mission to protect, restore and manage the use of coastal and ocean resources through ecosystem-based management.

FUNDING AVAILABILITY: Funding availability for this program is contingent upon FY07 Congressional appropriations. Approximately $500,000 was available in FY 2006 and similar levels may be available for awards in FY2007; there are no restrictions on minimum or maximum funding requests. Award periods may be up to a maximum of 5 years, with annual funding contingent on the availability of Federal appropriations.

STATUTORY AUTHORITY: Fish and Wildlife Coordination Act, as amended, at 16 U.S.C. 661.

CATALOG OF FEDERAL DOMESTIC ASSISTANCE (CFDA) NUMBER: 11.472, Unallied Science Programs.

APPLICATION DEADLINE: Proposals must be received by 5 p.m. EST on February 12, 2007. Hard copy applications must be postmarked by February 12, 2007.

ADDRESS FOR SUBMITTING PROPOSALS: Applicants should submit proposals online through www.grants.gov. If online submission is not possible, paper applications may be mailed to NOAA/NMFS/Office of Protected Resources, Attn: Lisa Manning, 1315 East-West Highway, SSMC3, Silver Spring, MD 20910.

INFORMATION CONTACT: Lisa Manning, 1315 East-West Highway, Silver Spring, MD 20910; email: lisa.manning@noaa.gov; phone: 301-713-1401.

ELIGIBILITY: Eligible applicants are state, tribal, or local governments that have regulatory or management authority over one or more federally identified species of concern or over activities that affect one or more federally identified species of concern.

COST SHARING REQUIREMENTS: There are no cost-sharing or matching requirements under this solicitation.

INTERGOVERNMENTAL REVIEW: Applications under this program are subject to Executive Order 12372, “Intergovernmental Review of Federal Programs.”

National Ocean Service

1. FY 2007 Regional Integrated Ocean Observing System Development

SUMMARY DESCRIPTION: Designed to be user-driven and provide sustained data and information in forms and at rates required by decision makers, the Integrated Ocean Observing System (IOOS) will efficiently link observations, data management, and modeling to provide required data and information on local to global scales, e.g., from the local scale of beaches and shellfish beds to the global scale of an El Niño event.

Regional coastal ocean observing systems (RCOOSs) are designed to complement the observing systems managed directly by federal agencies that meet national priorities. With the guidance of Regional Associations to understand regional priorities, RCOOSs provide the types of data, information, and products needed to address the estuarine and coastal issues experienced by the different regions, and to leverage the delivery and applicability of data collected by local network nodes. NOAA views this announcement as an opportunity to demonstrate the regional observing system concept. To assist in regional IOOS development, NOAA seeks proposals for one- to three-year grant or cooperative agreement projects that address the following focus areas:

1. Regional coastal ocean observing systems (RCOOS) development - to further the establishment and integration of observing system assets within regions and the operation of those assets for the benefit of the region. Proposals submitted under this focus area will demonstrate the approach and benefits of integration at the scale of the Regional Association. While focus areas 2 and 3 address particular components of IOOS (e.g., data management and product development), this focus area invites proposals that implement an end-to-end RCOOS that addresses regional needs.

2. IOOS application and product development for regional stakeholders — to develop, advance, and document the value of applying existing IOOS assets to the real-world issues of managers, industry, and the general public. Proposals submitted under this focus area will address regional needs for IOOS applications and products and quantify the value of the application or product to the end user.

3. Data management and communication by local data network nodes — to develop guidance and processes for regional non-federal data providers to contribute to the IOOS data stream. Proposals submitted under this focus area will develop local data network nodes that deliver regional data to a range of consumers using common standards and protocols.

The program priorities for this opportunity support NOAA's mission support goal of: Weather and Water — Serve Society's Needs for Weather and Water Information. Other goals are supported, but this is the goal the opportunity most closely addresses.

FUNDING AVAILABILITY: Funding Availability: Total anticipated funding for all awards is approximately $15,000,000 and is subject to the availability of FY 2007 appropriations. Multiple awards are anticipated from this announcement. The anticipated federal funding per award (min-max) is approximately $100,000 to $6,000,000. The anticipated number of awards ranges from 7 to 14, approximately, and will be adjusted based on available funding.

STATUTORY AUTHORITY: Statutory authority for this program is provided under the Coastal Zone Management Act, 16 U.S.C. 1456c (Technical Assistance); 33 U.S.C. 883d; and 33 U.S.C. 1442 (Research program investigating possible long-range effects of pollution, overfishing, and anthropogenically-induced changes of ocean ecosystems).

CATALOG OF FEDERAL DOMESTIC ASSISTANCE (CFDA) Number: 11.473, Coastal Services Center.

APPLICATION DEADLINE: A LOI is required prior to submitting a full proposal. LOIs must be received by the Coastal Services Center by 5 p.m. EST on January 31, 2007. Full proposal applications must be received by 5 p.m. EST, April 17, 2007.

ADDRESS FOR SUBMITTING APPLICATIONS: LOIs must be sent via e-mail to James.L.Free@noaa.gov. Applicants submitting a LOI should reference the Funding Opportunity Title (FY 2007 Regional Integrated Ocean Observing System Development) as the subject line of the e-mail containing the LOI.

If an applicant does not have Internet access, the applicant must submit through surface mail one original and two copies of the LOI to the Coastal Services Center. No fax copies will be accepted. Any U.S. Postal Service correspondence should be sent to the attention of James Lewis Free, NOAA Coastal Services Center, 2234 South Hobson Avenue, Charleston, SC, 29405-2413.

Full proposal application packages should be submitted through Grants.gov APPLY. The standard NOAA funding application package is available at www.grants.gov.

If an applicant does not have Internet access, the applicant must submit through surface mail one set of originals (signed) and two copies of the proposals and related forms to the Coastal Services Center. No e-mail or fax copies will be accepted. Any U.S. Postal Service correspondence should be sent to the attention of James Lewis Free, NOAA Coastal Services Center, 2234 South Hobson Avenue, Charleston, SC, 29405-2413.

INFORMATION CONTACT: For administrative issues, contact James Lewis Free at 843-740-1185 (phone) or e-mail him at James.L.Free@noaa.gov. Technical questions on the IOOS announcement should be directed to the following people according to the focus area in question: RCOOS Development, Geno Olmi by telephone at 843-740-1230 (phone) or e-mail him at Geno.Olmi@noaa.gov; IOOS Applications and Product Development, Dave Eslinger by telephone (843) 740-1270, or by e-mail Dave.Eslinger@noaa.gov; and Data Management and Communications, Jim Boyd by telephone (843) 740-1278, or by e-mail James.Boyd@noaa.gov.

ELIGIBILITY: Eligible funding applicants are institutions of higher education, non-profit and for-profit organizations, international organizations, and state, local and Indian tribal governments. Federal agencies or institutions and foreign governments may not be the primary recipient of awards under this announcement, but are encouraged to partner with applicants. Federal partners must identify the relevant statutory authorities that will allow for the receipt of funds.

COST SHARING REQUIREMENTS: There is no requirement for cost sharing.

INTERGOVERNMENTAL REVIEW: Applications under this program are subject to Executive Order 12372, “Intergovernmental Review of Federal Programs.”

2. California Bay Watershed Education and Training (B-WET) Program, Adult and Community Watershed Education in the Monterey Bay

SUMMARY DESCRIPTION: The California B-WET Program, Adult and Community Watershed Education, is a competitively based program that supports existing environmental education programs, fosters the growth of new programs, and encourages the development of partnerships among environmental education programs throughout the Monterey Bay watershed. Funded projects provide meaningful watershed education to adults and communities. The term meaningful watershed education is defined as outcome-based programs that educate citizens about their role in protecting water quality and demonstrate behavioral changes that improve water quality and promote environmental stewardship. This program will support NOAA's mission to protect, restore and manage the use of coastal and ocean resources through ecosystem-based management.

FUNDING AVAILABILITY: This solicitation announces that approximately $100,000 may be available in FY 2007 in award amounts to be determined by the proposals and available funds. The National Marine Sanctuary Program anticipates that approximately 2-4 grants will be awarded with these funds and that typical project awards will range from $10,000 to $50,000.

STATUTORY AUTHORITY: 16 U.S.C. 1440, 15 U.S.C. 1540.

CATALOG OF FEDERAL DOMESTIC ASSISTANCE (CFDA) NUMBER: 11.429, Marine Sanctuary Program.

APPLICATION DEADLINE: Proposals must be received by 5 p.m. Pacific standard time on February 1, 2007. Hard copy and electronic proposals received after that time will not be considered for funding and will be returned to the applicant.

ADDRESS FOR SUBMITTING PROPOSALS: It is strongly preferred that you submit your application through Grants.gov at the internet site: http://www.grants.gov. You may access, download, and submit an electronic grant application through Grants.gov. The full funding announcement is available via the grants.gov web site: http://www.grants.gov. The announcement will also be available at the NOAA web site http://sanctuaries.noaa.gov/bwet or by contacting the program officials identified below. Applicants must comply with all requirements contained in the full funding opportunity announcement. NOAA strongly recommends that you do not wait until the application deadline date to begin the application process through Grants.gov.

INFORMATION CONTACT: Paper applications, a signed original and 2 copies (submission of five additional hard copies is strongly encouraged to expedite the review process, but it is not required) may be submitted to Attn: Seaberry Nachbar, B-WET Program Manager, Monterey Bay National Marine Sanctuary Office, 299 Foam Street, Monterey, CA 93940. The closing deadline for applying through grants.gov is the same as for the paper submission noted in this announcement.

ELIGIBILITY: Eligible applicants are institutions of higher education, nonprofit organizations, state or local government agencies, and Indian tribal governments. The Department of Commerce/ National Oceanic and Atmospheric Administration (DOC/NOAA) is strongly committed to broadening the participation of historically black colleges and universities, Hispanic serving institutions, tribal colleges and universities, and institutions that service underserved areas.

COST SHARING REQUIREMENTS: No cost sharing is required under this program; however, the National Marine Sanctuary Program strongly encourages applicants to share as much of the costs of the award as possible. Funds from other Federal awards may not be considered matching funds. The nature of the contribution (cash versus in-kind) and the amount of matching funds will be taken into consideration in the review process with cash being the preferred method of contribution.

INTERGOVERNMENTAL REVIEW: Applications under this program are not subject to Executive Order 12372, “Intergovernmental Review of Federal Programs.”

National Weather Service

1. Hydrologic Research and Social Science Research in Hydrologic Applications.

SUMMARY DESCRIPTION: This program announcement is for projects to be conducted by research investigators for a 1-year or a 3-year period, depending on which high-priority area the proposal is submitted to. June 1, 2007, should be used as the proposed start date on proposals. This program represents an NOAA/NWS effort to create a cost-effective continuum of basic and applied research through collaborative research between the Hydrology Laboratory of the NWS Office of Hydrologic Development and academic communities or other private or public agencies which have expertise in hydrologic research, and in social science research in hydrologic applications. These activities will engage researchers and students in basic and applied research to improve hydrologic forecasting, including the display of probabilistic information to emergency managers and to the general public. The program priorities for this opportunity support NOAA's mission support goal of: Weather and Water- Serve Society's Needs for Weather and Water Information.

FUNDING AVAILABILITY: It is expected that, depending on availability of funds, one award for each of the three priority areas described in the detailed announcement will be made. However, if no proposals are deemed of suitable quality in any of the two areas, no award in that particular area will be made. The government Maximum funding is described in the detailed announcement.

STATUTORY AUTHORITY: 15 U.S.C. 313 and 33 U.S.C. 883d.

CATALOG OF FEDERAL DOMESTIC ASSISTANCE (CFDA) NUMBER : 11.462, Hydrologic Research.

APPLICATION DEADLINE: Proposals are due no later than 3 p.m. EST 30 calendar days after the publication of this announcement. Proposals should be submitted through http://www.grants.gov. For applicants without internet access, they may be sent to NOAA/NWS; 1325 East-West Highway, Room 8176; Silver Spring, MD 20910-3283.

INFORMATION CONTACT(S): Dr. Pedro Restrepo by phone at 301-713-0640 ext. 210, or fax to 301-713-0963, or via e-mail at Pedro.Restrepo@noaa.gov. Proponents are advised that soliciting advice on any aspect of this funding opportunity from employees and contractors of the Office of Hydrologic Development, other than Dr. Pedro Restrepo, is not permitted. Requesting advice from any other NOAA office, such as NOHRSC, NCEP or any of the RFCs or WFOs is allowed and highly encouraged.

ELIGIBILITY: Eligible applicants are Federal agencies, institutions of higher education, other nonprofits, commercial organizations, foreign governments, organizations under the jurisdiction of foreign governments, and international organizations, state, local and Indian tribal governments. PLEASE NOTE: Before non-NOAA Federal applicants may be funded, they must demonstrate that they have legal authority to receive funds from another Federal agency in excess of their appropriation. Because this announcement is not proposing to procure goods or services from applicants, the Economy Act (31 U.S.C. 1535) is not an appropriate legal basis.

COST SHARING REQUIREMENTS: None.

INTERGOVERNMENTAL REVIEW: Applications under this program are not subject to Executive Order 12372, “Intergovernmental Review of Federal Programs.”

Oceans and Atmospheric Research

1. NOAA's Great Lakes Ecosystem Research

SUMMARY DESCRIPTION: NOAA's mission is to understand and predict changes in the Earth's environment and conserve and manage coastal and marine resources to meet our nation's economic, social and environmental needs. Proposals funded under this announcement fulfill NOAA's ecosystem mission to protect, restore, and manage use of coastal and ocean resources through ecosystem-based management. The Great Lakes Environmental Research Laboratory (GLERL) is actively involved in research on ecological prediction, aquatic invasive species, physical environment prediction, and environmental observing systems. Specific research projects include studies on aquatic invasive species in the Great Lakes, especially prevention of introduction and effects on food webs, the development of coastal environmental forecast systems, Great Lakes water supplies, water level forecasting, food web interactions and regulation and forecasting risks to Human Health (e.g., beach closings, drinking water quality and harmful algal blooms).

FUNDING AVAILABILITY: Total anticipated federal funding for FY 2007 is $1.5M in the first year with funding for 20 - 30 of awards. Federal Funding for FY 2008 and beyond may be used in part to fund some awards submitted under this competition. We anticipate that the annual cost of most funded projects will fall between $1,000 and $50,000 per year. Actual funding levels will depend upon the final FY 2007 and subsequent budget appropriations.

STATUTORY AUTHORITY: 33 U.S.C. 883d.

CATALOG OF FEDERAL DOMESTIC ASSISTANCE (CFDA) NUMBER: 11.460 - Special Oceanic and Atmospheric Projects

APPLICATION DEADLINE: Letters of Intent should be received at GLERL no later than 5 p.m. EST, February 16, 2007. Full proposals must be received no later than 5 p.m. EST, March 30, 2007.

ADDRESS FOR SUBMITTING PROPOSALS: (1) Letters of Intent (LOI). LOIs are encouraged to be submitted by facsimile or e-mail to the identified NOAA program element's program manager and to GLERLgrants@noaa.gov. If an applicant does not have Internet access, LOI hard copies should be sent to the Program Managers listed with each program in the Program Priorities section and to the GLERL Grants Manager, Sandra Salyers, NOAA/GLERL, 2205 Commonwealth Blvd; Ann Arbor, MI., 48105, phone 734-741-2246; (2) Proposals. Proposals should be submitted through Grants.gov APPLY (http://www.grants.gov). If an applicant does not have Internet access, please contact the GLERL Grants Manager (see above) for hard copy instructions.

INFORMATION CONTACT: Sandra Salyers, NOAA/GLERL, 2205 Commonwealth Blvd; Ann Arbor, MI 48105, phone 734-741-2246.

ELIGIBILITY: Eligible applicants are institutions of higher education, other nonprofits, commercial organizations, international organizations, State, local and Indian tribal governments. Federal agencies or institutions are not eligible to receive Federal assistance under this notice.

COST SHARING REQUIREMENTS: No cost sharing is required.

INTERGOVERNMENTAL REVIEW: Applications under this program are not subject to Executive Order 12372, “Intergovernmental Review of Federal Programs.”

Under Secretary's Associated Office (USAO)

1. National Ocean Sciences Competition for High School Students

SUMMARY DESCRIPTION: NOAA's Office of Education (OED), on behalf of its partner agencies in the National Oceanographic Partnership Program (NOPP), is requesting applications in support of an academic competition for high school students focusing on ocean sciences and related fields. The goal of this program is to expose high school students in the United States and its territories to the excitement of ocean sciences and related fields as well as careers in those fields. Projects should be 5 years in duration, employ one or more of the strategies articulated in the NOAA Education Plan (http://www.oesd.noaa.gov/NOAA_Ed_Plan.pdf), involve partnerships among academic institutions, free-choice learning venues, NGOs and Federal entities, and have an evaluation that both monitors the quality of the experience for the participants (be they students, teachers, or volunteers) and the impact of the program on the participants. Although it is expected that the project's focal point will be a tiered academic competition with regional and national-level events, it should also provide additional learning experiences for student participants, their peers and their teachers, such as internships and field or research experiences. It is anticipated that final recommendations for funding under this announcement will be made on or around February 28, 2007, and that the grant funded through this announcement will have a start date no earlier than April 1, 2007. There are no other program priorities for this announcement. This FFO meets NOAA's Mission Goal to protect, restore and manage the use of coastal and ocean resources through ecosystem-based management.

FUNDING AVAILABILITY: NOAA announces the availability of approximately $2,000,000 of Federal financial assistance in FY 2007 for an academic competition for high school students on ocean sciences and related fields. One award in the form of a grant will be made. NOAA will only consider projects that have a duration of five years. The total Federal amount for all years that may be requested from NOAA for the direct and indirect costs of the proposed project shall not exceed $10,000,000 for five years. The minimum Federal amount that must be requested from NOAA for all years for the direct and indirect costs is $1,000,000. Applications requesting Federal support from NOAA of less than $1,000,000 total or more than $10,000,000 total will not be considered for funding through this announcement. The amount of funding available through this announcement will be dependent upon the final appropriations for FY 2007 through FY 2011 and commitment of funds from partnering agencies of the National Oceanographic Partnership Program (NOPP).

STATUTORY AUTHORITY: Authority for this funding opportunity is provided by the following: 15 U.S.C. 1540.

CATALOG OF FEDERAL DOMESTIC ASSISTANCE (CFDA) NUMBER: 11.469 - Congressionally Identified Awards and Projects

APPLICATION DEADLINE: The deadline for full applications is 5 p.m., EST February 12, 2007.

ADDRESS FOR SUBMITTING PROPOSALS: Full applications should be submitted through Grants.gov (http://www.grants.gov). If an applicant does not have Internet access, one hard copy should be sent to ATTN: Competition Manager for Funding Opportunity SEC-OED-2007-2000888, DOC/NOAA Office of Education, 1401 Constitution Ave., NW, Room 6863, Washington, DC 20230. If submitting a hard copy, applicants are requested to provide a CD-ROM of the application, including scanned signed forms.

INFORMATION CONTACTS: For further information contact Sarah Schoedinger at 704-370-3528 or sarah.schoedinger@noaa.gov. ELIGIBILITY: Eligible applicants are institutions of higher education, other nonprofits, and state, local and Indian tribal governments in the United States. For profit organizations, foreign institutions, foreign organizations and foreign government agencies are not eligible to apply. Federal agencies are not eligible to receive Federal assistance under this announcement, but may be project partners. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above types of institutions.

COST SHARING REQUIREMENTS: None.

OTHER: An individual or institution may apply only once through this funding opportunity.

INTERGOVERNMENTAL REVIEW: Applications under this program are not subject to Executive Order 12372, “Intergovernmental Review of Federal Programs.”

2. Administrative Services for NOAA's Ernest F. Hollings Undergraduate Scholarship Program

SUMMARY DESCRIPTION: The purpose of this document is to advise the public that NOAA's Office of Education is announcing the availability of Federal assistance for a not-for-profit organization for administrative services for the Ernest F. Hollings Undergraduate Scholarship Program. The purposes of the program include: (1) To increase undergraduate training in oceanic and atmospheric science, research, technology, and education and foster multidisciplinary training opportunities; (2) to increase public understanding and support for stewardship of the ocean and atmosphere and improve environmental literacy; (3) to recruit and prepare students for public service careers with the National Oceanic and Atmospheric Administration and other natural resource and science agencies at the Federal, state and local levels of government; and (4) to recruit and prepare students for careers as teachers and educators in oceanic and atmospheric science and to improve scientific and environmental education in the United States.

The Hollings Scholarship Program provides selected undergraduate applicants with awards that include academic assistance (up to a maximum of $8,000) for full-time study during the 9-month academic year; a 10-week, full-time internship position ($650/week) during the summer at a NOAA or partner facility; and, if reappointed, academic assistance (up to a maximum of $8,000) for full-time study during a second 9-month academic year. The internship between first and second years of the award provides “hands-on” multi-disciplinary educational training experience involving scholars in NOAA-related scientific, research, technological, policy, management, and education activities. Awards also include a housing subsidy for scholars who do not reside at home during the summer internship and travel expenses for attendance and participation at a Hollings scholarship orientation program, conference travel, and an end of summer internship presentation program.

The program priorities for this opportunity support NOAA's mission support goal of Critical Support — Facilities, ships, aircraft, environmental satellites, data-processing systems, computing and communications systems.

FUNDING AVAILABILITY: Subject to appropriations, this solicitation announces that funding at a maximum of $3,400,000 will be available for program administration of the Ernest F. Hollings Undergraduate Scholarship Program over a two-year period. Only one application will be funded. Up to 18 percent is allowed for administrative overhead and at least 82 percent is for student support. It is anticipated that the funding instrument will be a cooperative agreement since NOAA will be substantially involved in the selection of scholarship recipients, identifying NOAA facilities to place students during the one summer internship, and with collaboration, participation, or intervention in project performance.

STATUTORY AUTHORITY: 15 U.S.C. 1540, P.L. 108-447.

CATALOG OF FEDERAL DOMESTIC ASSISTANCE (CFDA) NUMBER: 11.481 - Educational Partnership Program with Minority Serving Institutions.

APPLICATION DEADLINE: Applications must be received by the NOAA Office of Education on or before February 12, 2007 no later than 5 p.m. EST.

ADDRESS FOR SUBMITTING APPLICATIONS: Applications submitted in response to this announcement should be submitted through the Grants.gov web site. Electronic access to the full funding announcement for this program is available via the Grants.gov web site: http://www.grants.gov. The announcement will also be available at the NOAA Office of Education web site http://www.oesd.noaa.gov or by contacting the program official identified below. Paper applications (a signed original and two copies) may also be submitted to NOAA at the following address: NOAA/Office of Education, 1315 East West Highway, Room 10703, Silver Spring, MD 20910. No facsimile applications will be accepted. Organizations are encouraged to submit Letters of Intent to NOAA within 30 days of this announcement to aid in planning the review processes. Letters of Intent may be submitted via e-mail to Chantell.Haskins@noaa.gov. Information should include a general description of the program administration proposal.

INFORMATION CONTACT: Chantell Haskins, Program Manager at (301) 713-9437 ext. 125 or Chantell.Haskins@noaa.gov.

ELIGIBILITY: Proposals will only be accepted from non-profit organizations.

COST SHARING REQUIREMENTS: None

INTERGOVERNMENTAL REVIEW: Applications under this program are not subject to Executive Order 12372, “Intergovernmental Review of Federal Programs.”

Non-Competitive Project

The following entry provides the description and requirements of NOAA's noncompetitive project. NOAA Northeast Pacific Expedition Grant Program

SUMMARY DESCRIPTION: NOAA's Undersea Research Program (NURP), Ocean Exploration Program, and National Marine Sanctuary Program announce that they will be sponsoring an expedition in 2009 to examine deep sea habitats in the Northeast Pacific Ocean. The geographic regions of interest include waters off the coasts of the states of California, Oregon, Washington, Alaska (including the Aleutian Islands), and Hawaii (specifically the Northwestern Hawaiian Islands), and the Emperor Seamounts. It is anticipated that the expedition will use the R/V Kaìimikai-o-Kanaloa and the 2000-meter capable human occupied submersibles, Pisces IV and V, and be approximately four months in length with seven to ten individual segments. Funding will be provided for an external, competitive grant program entitled the NOAA Northeast Pacific Expedition Grant Program to be administered through the NURP Centers for the West Coast and Polar Regions and Hawaii and the Western Pacific Regions, the Hawaii Undersea Research Laboratory, in partnership with NURP headquarters, the Ocean Exploration Program and the National Marine Sanctuary Program. Specific priorities, geographic preferences, application requirements, and the competitive peer-review process will be provided in the request for proposals to be posted at http://www.westnurc.uaf.edu/expedition. The program priorities for this opportunity support NOAA's mission support goal of: Ecosystems - Protect, Restore, and Manage Use of Coastal and Ocean Resources through Ecosystem-Based Management.

FUNDING AVAILABILITY: Approximately $2,000,000 may be available in FY 2008 and FY 2009 to support awards under this program.

STATUTORY AUTHORITY: Statutory authority for this program is provided under 33 U.S.C. 883d.

CATALOG OF FEDERAL DOMESTIC ASSISTANCE (CFDA) Number: 11.430, National Undersea Research Program.

INFORMATION CONTACT: Kimberly Puglise, 301-713-2427, extension 199 or e-mail at kimberly.puglise@noaa.gov. The request for proposals will be announced at: http://www.westnurc.uaf.edu/expedition.

COST SHARING REQUIREMENTS: The awards require a 1:1 federal to non-federal match.

INTERGOVERNMENTAL REVIEW: Applications under this program are not subject to Executive Order 12372, “Intergovernmental Review of Federal Programs.”

Limitation of Liability

Funding for programs listed in this notice is contingent upon the availability of Fiscal Year 2007 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that they are required to provide a Dun and Bradstreet Data Universal Numbering System (DUNS) number during the application process. See the October 30, 2002 Federal Register, Notice of Proposed Requirement for Use of a Universal Identifier by Grant Applicants (67 FR 66177) for additional information. Organizations can receive a DUNS number at no cost by calling the dedicated toll-free DUNS Number request line at 1-866-705-5711 or via the internet http://www.dunandbradstreet.com.

National Environmental Policy Act (NEPA)

NOAA must analyze the potential environmental impacts, as required by the NEPA, for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_--6_--TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). NOAA has developed an environmental information questionnaire to provide applicants and Federal grant managers with a simple tool to ensure that project and environmental information is obtained. The questionnaire will apply only to those programs where actions are considered major Federal actions or to those where NOAA must determine if the action is a major Federal action. The questionnaire consists of a comprehensive list of questions that encompasses a broad range of subject areas. The applicants will not be required to answer every question in the questionnaire. Each program will draw from the final comprehensive list of questions to create a relevant subset of questions for applicants to answer. These questions will be found in the Federal Funding Opportunity Announcement for individual programs under Section IV.B. (Application and Submission Information; Content and Form of Application Submission). The information provided in answers to the questionnaire will be used by NOAA staff to determine compliance requirements for NEPA and conduct subsequent NEPA analysis as needed. The information provided in the questionnaire may also be used for other regulatory review requirements associated with the proposed project. NOAA may require follow-up information after the application process has been completed.

In addition to providing specific information that will serve as the basis for any required impact analyses, applicants may also be requested to assist NOAA in the drafting of an environmental assessment, if NOAA determines an assessment is required. Applicants will also be required to cooperate with NOAA in identifying and implementing feasible measures to reduce or avoid any identified adverse environmental impacts of their proposal. The failure to do so shall be grounds for not selecting an application. In some cases, if additional information is required after an application is selected, funds can be withheld by the Grants Officer under a special award condition requiring the recipient to submit additional environmental compliance information sufficient to enable NOAA to make an assessment on any impacts that a project may have on the environment.

Compliance with Department of Commerce Bureau of Industry and Security Export Administration Regulations (15 CFR 734.2(b)(2)(ii))

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic I Arms Regulations (ITAR) (22 CFR parts 120-130), implemented by the Department of State. This includes, but is not limited to, dual-use items, defense articles and any related assistance, services, software or technical data as defined in the EAR and ITAR.

(d) The recipient shall control access to all export-controlled information and technology that it possesses or that comes into its possession in performance of this financial assistance award, to ensure that access is restricted, or licensed, as required by applicable Federal laws, Executive Orders, and/or regulations.

(e) Nothing in the terms of this financial assistance award is intended to change, supersede, or waive any of the requirements of applicable Federal laws, Executive Orders or regulations.

(f) The recipient shall include this clause, including this paragraph (f), in all lower tier transactions (subawards, contracts, and subcontracts) under this financial assistance award that may involve access to export-controlled information technology.

NOAA implementation of Homeland Security Presidential Directive — 12.

If the performance of a financial assistance award, if approved by NOAA, requires recipients to have physical access to Federal premises for more than 180 days or access to a Federal information system, any items or services delivered under a financial assistance award shall comply with the Department of Commerce personal identity verification procedures that implement Homeland Security Presidential Directive -12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements. The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424, 424A, 424B, SF LLL, CD-346, SF 424 Research and Related Family, SF 424 Short Organizational Family, and the SF 424 Individual Form Family has been approved by the Office of Management and Budget (OMB) under the respective control numbers 4040-0004, 0348-0044, 0348-0040, 0348-0046, 0605-0001, 4040-0001, 4040-0003, and 4040-0005. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: December 20, 2006.
Daniel Clever,
Deputy Director, Acquisitions and Grants Office.

[FR Doc. E6-22176 Filed 12-26-06; 8:45 am]

BILLING CODE 3510-22-S